DEPARTMENT OF COMMERCE

International Trade Administration

[A-475-059]

Pressure Sensitive Plastic Tape From Italy: Final Results of Sunset Review and Revocation of Antidumping Duty Finding

AGENCY: Enforcement and Compliance, International Trade Administration, Department of Commerce.

SUMMARY: On March 1, 2021, the Department of Commerce (Commerce) initiated the fifth sunset review of the antidumping duty finding on pressure sensitive plastic tape (PS tape) from Italy. Because no domestic interested party filed a timely notice of intent to participate in this sunset review, Commerce is revoking this antidumping duty finding.

DATES: Applicable April 14, 2021.

FOR FURTHER INFORMATION CONTACT: Jacob Garten, AD/CVD Operations, Office II, Enforcement and Compliance, International Trade Administration, U.S. Department of Commerce, 1401 Constitution Avenue NW, Washington, DC 20230; telephone: (202) 482-3342.

SUPPLEMENTARY INFORMATION:

Background

On October 21, 1977, the Department of Treasury issued an antidumping duty finding on PS tape from Italy.¹ Commerce conducted four previous sunset reviews of the Finding. Commerce published the final results of those sunset reviews on January 6, 1999; ² May 11, 2004; ³ August 13, 2009; ⁴ and July 8, 2015.⁵ On April 14, 2016, Commerce published a notice of continuation of the Finding following the fourth sunset review.⁶ On March 1, 2021, Commerce initiated the fifth sunset review of this Finding.⁷

¹ See Antidumping: Pressure Sensitive Plastic Tape Measuring Over One and Three-Eights Inches in Width and Not Exceeding Four Millimeters in Thickness from Italy, 42 FR 56110 (October 21, 1977) (Finding). Prior to the Trade Agreements Act of 1979 (1979 Act), Public Law 96-39, the Treasury Department issued antidumping “findings.” Section 106(a) of the 1979 Act expressly preserved the existing antidumping “findings” in the new law and provided that, after January 1, 1980, the Tariff Act of 1930 would be amended to require Commerce to issue antidumping “orders” instead of “findings.”

² See Final Results of Expedited Sunset Review: Pressure Sensitive Plastic Tape from Italy, 64 FR 853 (January 6, 1999).

³ See Pressure Sensitive Plastic Tape from Italy; Final Results of the Second Sunset Review of Antidumping Duty Finding, 69 FR 26068 (May 11, 2004).

⁴ See Pressure Sensitive Plastic Tape from Italy: Final Results of Expedited Sunset Review, 74 FR 40811 (August 13, 2009).

⁵ See Pressure Sensitive Plastic Tape from Italy: Final Results of Expedited Fourth Sunset Review of the Antidumping Duty Finding, 80 FR 39054 (July 8, 2015).

⁶ See Pressure Sensitive Plastic Tape from Italy: Continuation of the Antidumping Duty Finding, 81 FR 22048 (April 14, 2016) (2016 Continuation Notice).

⁷ See Initiation of Five-Year (Sunset) Reviews, 86 FR 11928 (March 1, 2021).

No domestic interested party submitted a notice of intent to participate in this sunset review by the applicable time limit of March 16, 2021, as required by 19 CFR 351.102(d)(1).⁸ Pursuant to 19 CFR 351.218(e)(1)(i)(C)(2), on March 23, 2021, Commerce notified the International Trade Commission that it intended to issue a final determination revoking this antidumping duty finding.⁹

⁸ On March 17, 2021, domestic interested parties attempted to file an untimely notice of intent to participate. See Domestic Interested Parties' Letter, “Pressure Sensitive Plastic Tape from Italy: Notice of Intent to Participate in Sunset Review,” dated March 17, 2021. On the same day, the domestic interested parties filed an untimely request for an extension of time to file their notice of intent to participate in this sunset review. See Domestic Interested Parties' Letter, “Pressure Sensitive Plastic Tape from Italy: Request for Extension of Time to File Notice of Intent to Participate in Sunset Review,” dated March 17, 2021. Commerce found that the domestic interested parties failed to identify extraordinary circumstances warranting consideration of the untimely extension request and, thus, denied the untimely extension request and rejected the late submission of the notice of intent to participate. See Commerce's Letter's, “Five-Year (“Sunset”) Review of Pressure Sensitive Plastic Tape from Italy: Rejection of Request for Extension of Time to File Notice of Intent to Participate in Sunset Review,” dated March 25, 2021.

⁹ See Commerce's Letter, “Sunset Reviews [sic] Initiated on March 1, 2021,” dated March 23, 2021.

Scope of the Finding

The products covered by the Finding are shipments of PS tape measuring over one and three-eighths inches in width and not exceeding four mils in thickness. The above described PS tape is classified under Harmonized Tariff Schedule of the United States (HTSUS) subheadings 3919.90.10.20 and 3919.90.50. The HTSUS subheadings are provided for convenience and for customs purposes. The written description remains dispositive.

Determination to Revoke

Pursuant to 19 CFR 351.218(d)(1)(iii)(B), if no domestic interested party files a notice of intent to participate under paragraph (d)(1) of that section, Commerce will issue a final determination revoking the order or terminating the suspended investigation not later than 90 days after the date of publication in the Federal Register of the Notice of Initiation.¹⁰ In turn, 19 CFR 351.218(d)(1)(i) establishes a time limit for domestic interested parties to file a notice of intent to participate in response to a notice of initiation, which is 15 days after the date of publication in the Federal Register of the notice of initiation. In this case, the notice of initiation was published in the Federal Register on March 1, 2021; therefore, the deadline to file an intent to participate was March 16, 2021. As noted above, Commerce did not receive a notice of intent to participate from any domestic interested party by March 16, 2021.

¹⁰ See also section 751(c)(3)(A) of the Act and 19 CFR 351.222(i)(1)(i).

Because no domestic interested party timely filed a notice of intent to participate in this sunset review, Commerce finds that no domestic interested party has responded to the notice of initiation of this sunset review under 751(c)(3)(A) of the Tariff Act of 1930, as amended (the Act).¹¹ Therefore, consistent with the section 751(c)(3)(A) of the Act, 19 CFR 351.218(d)(1)(iii)(B)(3), and 19 CFR 351.222(i)(1)(i), we are revoking the antidumping duty finding on PS tape from Italy.

¹¹ See 19 CFR 351.218(d)(1)(iii)(B)(1).

Effective Date of Revocation

Pursuant to 19 CFR 351.222(i)(2)(i), the effective date of revocation is April 14, 2021, which is the fifth anniversary of the date of publication in the Federal Register of the most recent notice of continuation of this antidumping duty finding.¹² Therefore, pursuant to section 751(d)(3) of the Act, Commerce will instruct U.S. Customs and Border Protection to terminate the suspension of liquidation of the merchandise subject to this finding entered, or withdrawn from warehouse, on or after April 14, 2021. Entries of subject merchandise prior to the effective date of revocation will continue to be subject to suspension of liquidation and antidumping duty deposit requirements. Commerce will complete any pending administrative reviews of this finding and will conduct administrative reviews of subject merchandise entered prior to the effective date of revocation in response to appropriately filed requests for review.

¹² See 2016 Continuation Notice.

This notice of revocation is published in accordance with sections 751(c) and 777(i)(1) of the Act and 19 CFR 351.218(d)(1)(iii) and 19 CFR 351.222(i)(1)(i).

Dated: June 1, 2021.
Christian Marsh,
Acting Assistant Secretary for Enforcement and Compliance.

[FR Doc. 2021-11853 Filed 6-4-21; 8:45 am]

BILLING CODE 3510-DS-P